DELAWARE RIVER BASIN COMMISSION

Notice of Public Hearing and Business Meeting, September 9-10, 2014

Notice is hereby given that the Delaware River Basin Commission will hold a public hearing on Tuesday, September 9, 2014. A conference session and business meeting will be held the following day on Wednesday, September 10, 2014. The hearing, conference session and business meeting are open to the public and will be held at the Washington Crossing Historic Park Visitor Center, 1112 River Road, Washington Crossing, Pennsylvania.

Public Hearing. The public hearing on September 9, 2014 will begin at 1:30 p.m. Hearing items will include draft dockets for withdrawals, discharges and other water-related projects subject to the Commission's review, and resolutions: (1) Requesting that U.S. EPA establish Stage 2 TMDLs for PCBs in the Delaware Estuary and Bay; and (2) authorizing the Executive Director to enter into an agreement with New York University Medical Center for studies on the effects of PCBs and dissolved oxygen on Atlantic Sturgeon. The list of projects scheduled for hearing, including project descriptions, will be posted on the Commission's Web site, www.drbc.net, in a long form of this notice at least ten days before the hearing date. Written comments on draft dockets and resolutions scheduled for hearing on September 9 will be accepted through the close of the hearing that day. After the hearing on all scheduled matters has been completed, there will be an opportunity for public dialogue.

Because hearings on particular projects may be postponed to allow additional time for the commission's review, interested parties are advised to check the Commission's Web site during the week immediately prior to the hearing date. Any postponements will be duly noted there.

Public Meeting. The public meeting on September 9, 2014 will begin at 12:15 p.m. with an informal conference session, consisting of an annual progress report by the staff on implementation of the Basin Plan. The business meeting will include the following items: adoption of the Minutes of the Commission's June 11, 2014 business meeting, announcements of upcoming meetings and events, a report on hydrologic conditions, reports by the Executive Director and the Commission's General Counsel, and consideration of any items for which a hearing has been completed or is not required.

There will be no opportunity for additional public comment at the September 10 business meeting on hearing items for which the hearing was completed on September 9 or a previous date. Commission consideration on September 10 of items for which the public hearing is closed may result in either approval of the item (docket or resolution) as proposed, approval with changes, denial, or deferral. When the Commissioners defer an action, they may announce an additional period for written comment on the item, with or without an additional hearing date, or they may take additional time to consider the input they have already received without requesting further public input. Any deferred items will be considered for action at a public meeting of the Commission on a future date.

Advance Sign-Up for Oral Comment. Individuals who wish to comment for the record at the public hearing on September 9 or to address the Commissioners informally during the public dialogue portion of the hearing on September 9 are asked to sign up in advance by contacting Ms. Paula Schmitt of the Commission staff, at paula.schmitt@drbc.state.nj.us or by phoning Ms. Schmitt at 609-883-9500 ext. 224.

Addresses for Written Comment. Written comment on items scheduled for hearing may be delivered by hand at the public hearing or in advance of the hearing, either: by hand, U.S. Mail or private carrier to: Commission Secretary, P.O. Box 7360, 25 State Police Drive, West Trenton, NJ 08628; by fax to Commission Secretary, DRBC at 609-883-9522; or by email to paula.schmitt@drbc.state.nj.us. If submitted by email in advance of the hearing date, written comments on a docket should also be sent to Mr. William Muszynski, Manager, Water Resources Management at william.muszynski@drbc.state.nj.us.

Accommodations for Special Needs. Individuals in need of an accommodation as provided for in the Americans with Disabilities Act who wish to attend the informational meeting, conference session or hearings should contact the Commission Secretary directly at 609-883-9500 ext. 203 or through the Telecommunications Relay Services (TRS) at 711, to discuss how we can accommodate your needs.

Updates. Items scheduled for hearing are occasionally postponed to allow more time for the Commission to consider them. Other meeting items also are subject to change. Please check the Commission's Web site, www.drbc.net, closer to the meeting date for changes that may be made after the deadline for filing this notice.

Additional Information, Contacts. The list of projects scheduled for hearing, with descriptions, will be posted on the Commission's Web site, www.drbc.net, in a long form of this notice at least ten days before the hearing date. Draft dockets and resolutions for hearing items will be available as hyperlinks from the posted notice. Additional public records relating to hearing items may be examined at the Commission's offices by appointment by contacting Carol Adamovic, 609-883-9500, ext. 249. For other questions concerning hearing items, please contact Project Review Section assistant Victoria Lawson at 609-883-9500, ext. 216.

Dated: August 25, 2014.
Pamela M. Bush,
Commission Secretary and Assistant General Counsel.

[FR Doc. 2014-20684 Filed 8-29-14; 8:45 am]

BILLING CODE 6360-01-P